DEPARTMENT OF HOUSING AND URBAN DEVELOPMENT

[Docket No. FR-4814-N-06]

Notice of Proposed Information Collection: Comment Request, Community Development Block Grant Entitlement Program

AGENCY: Office of the Assistant Secretary for Community Planning and Development, HUD.

ACTION: Notice.

SUMMARY: The proposed information collection requirement described below will be submitted to the Office of Management and Budget (OMB) for review as required by the Paperwork Reduction Act. The Department is soliciting public comments on the subject proposal.

DATES: Comments Due Date: October 6, 2003.

ADDRESSES: Interested persons are invited to submit comments regarding this proposal. Comments should refer to the proposal by name and/or OMB Control Number and should be sent to: Shelia Jones, Reports Liaison Officer, Department of Housing and Urban Development, 451 7th Street, SW., Room 7232, Washington, DC 20410.

FOR FURTHER INFORMATION CONTACT: Diane Lobasso at (202) 708-1322, Extension 2191 (this is not a toll free number).

SUPPLEMENTARY INFORMATION: The Department is submitting the proposed information collection to OMB for review, as required by the Paperwork Reduction Act of 1995 (44 U.S.C. Chapter 35, as amended). This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Community Development Block Grant Entitlement Program.

OMB Control Number, if applicable: 2506-0077.

Description of the need for the information and proposed use: The information collected from recipients participating in the CDBG Entitlement program will be used to verify program compliance with slums or blight national objective criteria. Grantees will be required to establish definitions and maintain records of slums or blighted areas. Grantees will also be required to revisit the slums or blighted designation every five years and maintain documentation to verify continued qualification.

Agency form numbers, if applicable: Not applicable.

Members of affected public: Grant recipients (metropolitan cities and urban counties) participating in the CDBG Entitlement Program.

Estimation of the total numbers of hours needed to prepare the information collection including number of respondents, frequency of response, and hours of response: The estimated number of respondents is 512. The proposed frequency of the response to the collection is on an annual basis. The total estimated burden is 3,584 annual hours.

Status of the proposed information collection: This submission is a revision of a currently approved collection. The current OMB approval expires on October 31, 2004.

Authority: The Paperwork Reduction Act of 1995, 44 U.S.C. chapter 35, as amended.

Dated: July 31, 2003.
Roy Bernardi,
Assistant Secretary for Community Planning and Development.

[FR Doc. 03-20043 Filed 8-5-03; 8:45 am]

BILLING CODE 4210-29-M